DEPARTMENT OF COMMERCE

National Oceanic and Atmospheric Administration

RIN 0648-XE682

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an exempted fishing permit application contains all of the required information and warrants further consideration. This exempted fishing permit would allow commercial fishing vessels in collaboration with the Commonwealth of Massachusetts Division of Marine Fisheries to research the use of raised-footrope trawl gear to target whiting (Northern silver hake) within two existing areas of the Gulf of Maine whiting exempted fishery before the start of these areas current open seasons.

Regulations under the Magnuson-Stevens Fishery Conservation and Management Act require publication of this notification to provide interested parties the opportunity to comment on applications for a proposed exempted fishing permit.

DATES: Comments must be received on or before June 30, 2016.

ADDRESSES: You may submit written comments by any of the following methods:

• Email: NMFS.GAR.EFP@noaa.gov. Include in the subject line “Comments on 2016 MADMF Whiting Exempted Fishery Study EFP.”

• Mail: John K. Bullard, Regional Administrator, NMFS, Greater Atlantic Regional Office, 55 Great Republic Drive, Gloucester, MA 01930. Mark the outside of the envelope “2016 MADMF Whiting Exempted Fishery Study EFP.”

FOR FURTHER INFORMATION CONTACT: Reid Lichwell, Fishery Management Specialist, (978) 282-9112.

SUPPLEMENTARY INFORMATION: The Commonwealth of Massachusetts Division of Marine Fisheries (MADMF) submitted a complete application for an Exempted Fishing Permit (EFP) to assess the use of small-mesh raised-footrope trawl gear to target whiting within two Gulf of Maine (GOM) whiting exempted fishing areas 2 weeks before each area currently opens for whiting fishing. Research would occur in subareas of Small Mesh Area I (SMA1) and the Western Raised Footrope Exemption Area (Western RFEA). This EFP would allow participating commercial fishing vessels exemption from the minimum mesh size gear requirements found at 50 CFR 648.80(a)(3); and from the possession limits and minimum size requirements specified in 50 CFR part 648, subparts B and D through O.

MADMF asserts that the GOM whiting exempted fishery is underutilized and analysis of observer data have indicated that whiting stocks may be more prevalent and more effectively targeted within the exemption areas before the current July 15 opening for SMA1 and before the September 1 opening for the Western RFEA. This study would provide data on catch rates of whiting and bycatch rates of regulated Northeast (NE) multispecies to evaluate an earlier opening of the GOM whiting exempted fishery. Funds from the Massachusetts Groundfish Disaster Economic Assistance Program will be used to support this project.

This EFP would allow five vessels to conduct research fishing within the western portion of SMA1 during July 1-14, and four vessels within the western half of the Western RFEA area during August 18-31, as defined within the scientific research plan. Participating vessels would be limited to 6 fishing days each, to be fished within their assigned areas, totaling 54 fishing days for the entire project. The length of each trip would be at the discretion of the vessel operators, consistent with normal commercial fishing practices. Each vessel would conduct approximately 3 to 4 tows per-day, with a tow speed of 2.5-knots and each tow lasting approximately 90 minutes.

Participating vessels will use a raised-footrope trawl with 2.5 or 3-inch diamond mesh nets consistent with the whiting exemption requirements found at 50 CFR 648.80(a)(9)(ii). These vessels would operate under the restrictions associated with the whiting exemption areas during their open seasons. For instance, vessels would be allowed to retain whiting and offshore hake with a possession limit of up to 7,500 lb (3,402 kg) per trip, and red hake with a possession limit of up to 3,000 lb (1,361 kg) per trip. Additional species permitted for retention and sale would include butterfish, spiny dogfish, Atlantic herring, Atlantic mackerel, scup, and squid. Regulated multispecies (cod, haddock, etc.) cannot be retained by the participating vessels. Participating vessels would be exempt from the possession limits and minimum size requirements while collecting weight and length measurements of catch. All catch, including bycatch, not retained for sale would be returned to the sea as soon as possible after biological sampling is conducted.

MADMF has analyzed catch data collected from 2010 through 2015 on vessels using small-mesh trawls within the same geographic area during adjacent timeframes to determine the predicted average catch and bycatch rates of each species per tow. This analysis suggests tows conducted under this research would result in low bycatch of regulated NE multispecies. The proposed EFP would provide relatively low fishing effort occurring over a short timeframe. In addition, due to the relatively small amount of whiting that will be harvested under this EFP, it is not anticipated that this project will reduce any small mesh sub-ACL to the extent that it would negatively impact other small mesh vessels that are not involved in this project.

All trips will be accompanied by either MADMF trained staff or contracted observers to collect data on catch composition, length and weight measurements, and operational data (location, weather, time, duration of tow, trawl speed, etc.) as described within the scientific research plan. All gear will be inspected and measured prior to its use to verify that it meets the mesh sizes requirements and raised-footrope specifications proposed for use in this project and consistent with existing applicable small-mesh exempted gear requirements.

Authority: 16 U.S.C. 1801 et seq.

Dated: June 10, 2016.
Alan D. Risenhoover,
Director, Office of Sustainable Fisheries, National Marine Fisheries Service.

[FR Doc. 2016-14160 Filed 6-14-16; 8:45 am]

BILLING CODE 3510-22-P